DEPARTMENT OF THE INTERIOR

Bureau of Land Management

[LLWO250000.L12200000.PM0000]

Renewal of Approved Information Collection, OMB Control Number 1004-0119

AGENCY: Bureau of Land Management, Interior.

ACTION: 60-day notice and request for comments.

SUMMARY: In compliance with the Paperwork Reduction Act of 1995, the Bureau of Land Management (BLM) announces its intention to request that the Office of Management and Budget (OMB) renew OMB Control Number 1004-0119 for the paperwork requirements in 43 CFR part 2930, which pertain to permits for recreation on public lands. The BLM is also proposing to revise Form 2930-1 (Special Recreation Application and Permit) to be used only as Special Recreation Application. OMB approval of the new Special Recreation Permit would not be required, since it would be completed by the BLM.

DATES: Please submit your comments to the BLM at the address below on or before May 24, 2010.

ADDRESSES: You may mail comments to: U.S. Department of the Interior, Bureau of Land Management, Mail Stop 401-LS, 1849 C St., NW., Washington, DC 20240, Attention: 1004-0119. You may also comment by e-mail at: Jean_Sonneman@blm.gov.

FOR FURTHER INFORMATION CONTACT: You may contact Judi Zuckert at 202-912-7093. Persons who use a telecommunication device for the deaf (TDD) may call the Federal Information Relay Service (FIRS) at 1-800-877-8339, to contact Ms. Zuckert. You may also contact Ms. Zuckert to obtain a copy, at no cost, of the regulations and forms that require this collection of information.

SUPPLEMENTARY INFORMATION: OMB regulations at 5 CFR 1320, which implement provisions of the Paperwork Reduction Act (44 U.S.C. 3501-3521), require that interested members of the public and affected agencies be provided an opportunity to comment on information collection and recordkeeping activities (see 5 CFR 1320.8(d) and 1320.12(a)). This notice identifies information collections that are contained in 43 CFR part 2930. The BLM will request that the OMB approve this information collection activity, as revised with respect to Form 2930-1, for a 3-year term.

At present, Form 2930-1 is both an application and a permit for special recreational uses of public lands. We are proposing to revise Form 2930-1 to be used only as an application, because certain elements of a proposed activity or event in the application may differ from the actual terms of the final permit that is issued. Developing a separate permit would enable the BLM to clearly describe the permitted activity or event.

The BLM would complete the Special Recreation Permit upon review of the information supplied by the respondent on Form 2930-1. The new permit would have to be signed by representatives of both the BLM and the respondent in order to become effective, but merely signing a form does not constitute a burden, as defined by the Paperwork Reduction Act at 44 U.S.C. 3502(2). Accordingly, OMB clearance for the new Special Recreation Permit is not required.

Comments are invited on: (1) The need for the collection of information for the performance of the functions of the agency; (2) the accuracy of the agency's burden estimates; (3) ways to enhance the quality, utility, and clarity of the information collection; and (4) ways to minimize the information collection burden on respondents, such as use of automated means of collection of the information. A summary of the public comments will accompany the BLM's submission of the information collection requests to OMB.

The following information is provided for the information collection:

Title: Permits for Recreation on Public Lands (43 CFR part 2930).

Form: Form 2930-1, Special Recreation Permit Application.

OMB Control Number: 1004-0119.

Abstract: This notice pertains to information collections that are necessary for the management of recreation on public lands. The currently approved information collection consists of the collection of nonform information in accordance with 43 CFR part 2930, and Form 2930-1 (Special Recreation Permit Application and Permit). As discussed above, we are proposing to revise Form 2930-1 to be used only as a Special Recreation Permit Application.

Frequency: On occasion.

Currently Approved Number and Description of Respondents: 365,845 applicants for and holders of permits for recreational use of public lands managed by the BLM.

Currently Approved Reporting and Recordkeeping “Hour” Burden: 365,845 responses and 375,995 hours. The following chart details the individual components and respective hour burden estimates of this information collection request, as currently approved:

Regulation 43 CFR part | Estimated number of responses annually | Estimated time per response (hours) | Estimated hours annually (b × c)
(a) | (b) | (c) | (d)
43 CFR Part 2930, Subpart 2932:
Special Recreation Application and Permit; Form 2930-1 and non-form information | 1,450 | 8 | 11,600
43 CFR Part 2930, Subpart 2933:
Recreation Use Permit for Use of Fee Areas | 364,395 | 1 | 364,395
Totals | 365,845 |  | 375,995

Currently Approved Reporting and Recordkeeping “Non-Hour Cost” Burden: There is no currently approved annual non-hour cost burden for Control Number 1004-0119.

The PRA (44 U.S.C. 3501, et seq.) provides that an agency may not conduct or sponsor a collection of information unless it displays a currently valid OMB control number. Until OMB approves a collection of information, you are not obligated to respond.

The BLM will summarize all responses to this notice and include them in the request for OMB approval. All comments will become a matter of public record. Before including your address, phone number, email address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. 2010-6627 Filed 3-24-10; 8:45 am]

BILLING CODE 4310-84-P